GENERAL SERVICES ADMINISTRATION

[Notice-MA-2018-03; Docket No. 2018-0002, Sequence No. 7]

Rescission of FTR Bulletins

AGENCY: Office of Government-wide Policy (OGP), General Services Administration (GSA).

ACTION: Notice of Federal Travel Regulation (FTR) Bulletin 18-04, rescission of FTR Bulletins.

SUMMARY: GSA is officially rescinding various FTR bulletins to ensure the Travel/Per Diem Bulletin section on the agency's FTR website displays only current information. Agencies' policies should be updated as warranted.

DATES: The rescission is as of May 16, 2018.

FOR FURTHER INFORMATION CONTACT: For clarification of content, please contact Mr. Cy Greenidge, Office of Government-wide Policy, Office of Asset and Transportation Management, at 202-219-2349, or by email at travelpolicy@gsa.gov. Please cite Notice of FTR Bulletin 18-04.

SUPPLEMENTARY INFORMATION: Executive Order 13777, Enforcing the Regulatory Reform Agenda, Section 3, paragraph (d)(ii), states in part, the Regulatory Reform Task Force shall attempt to identify regulations that are outdated, unnecessary, or ineffective. GSA has conducted a thorough review of all FTR bulletins on the FTR Travel/Per Diem Bulletins website (https://www.gsa.gov/policy-regulations/regulations/federal-travel-regulation/federal-travel-regulation-and-related-files#TravelPerDiemBulletins) and determined that some of the Bulletins contain outdated, duplicative, expired, or inapplicable content. FTR Bulletin 18-04 lists all rescinded bulletins meeting one of the aforementioned criterion.

Dated: May 11, 2018.
Alexander Kurien,
Deputy Associate Administrator, Office of Asset and Transportation Management, Office of Government-wide Policy.

[FR Doc. 2018-10436 Filed 5-15-18; 8:45 am]

BILLING CODE 6820-14-P